DEPARTMENT OF ENERGY

[EERE-2021-BT-BC-0013]

DOE-Hosted Workshop on the Future of Building Energy Codes

AGENCY: Office of Energy Efficiency and Renewable Energy, Department of Energy.

ACTION: Notice of virtual stakeholder workshop.

SUMMARY: The U.S. Department of Energy (DOE), Building Technologies Office will host a stakeholder workshop to explore the future of building energy codes. The purpose of the workshop is to highlight leading advancements in energy codes, bringing together key stakeholders from across the design and construction industry to discuss recent code updates, upcoming trends, as well as opportunities and challenges facing code implementation. This two-part public workshop will be held in a virtual format on Tuesday, June 22, 2021 and Thursday, June 24, 2021. Advanced registration is required.

DATES: The Future of Energy Codes Workshop will be held in a virtual format on Tuesday, June 22, 2021 (Part 1), and Thursday, June 24, 2021 (Part 2). DOE will accept written comments in response to topics presented during the Workshop. Comments are requested no later than July 8, 2021.

ADDRESSES: The virtual workshop registration is currently available at: https://www.energycodes.gov/future-of-codes-workshop. Once registered, an email with call-in and webinar login information will be sent to the registrant. Any comments submitted must identify the Notice for the “Future of Energy Codes Workshop,” and provide docket number EERE-2021-BT-BC-0013. Comments may be submitted by using either of the following methods:

1. Federal eRulemaking Portal: https://www.regulations.gov/docket/EERE-2021-BT-BC-0013. Follow the instructions for submitting comments.

2. Email: buildingenergycodesworkshop2021BC0013@ee.doe.gov. Include EERE-2021-BT-BC-0013 in the subject line of the message.

Instructions: All submissions received must include the agency name (U.S. DOE) and docket number. Additional information is included in SUPPLEMENTARY INFORMATION section.

FOR FURTHER INFORMATION CONTACT: Mr. Jeremiah Williams; U.S. Department of Energy, Office of Energy Efficiency and Renewable Energy, 1000 Independence Avenue SW, EE-5B, Washington, DC 20585; (202) 287-1941; Jeremiah.Williams@ee.doe.gov.

Mr. Matthew Ring; U.S. Department of Energy, Office of the General Counsel, 1000 Independence Avenue SW, GC-33, Washington, DC 20585; (202) 586-2555; Matthew.Ring@hq.doe.gov.

SUPPLEMENTARY INFORMATION: The U.S. Department of Energy (DOE), Building Technologies Office will hold a stakeholder workshop to highlight leading advancements in energy codes, bringing together key stakeholders from across the design and construction industry to discuss recent code updates, upcoming trends, as well as opportunities and challenges that states and local governments face in code implementation. This two-part workshop will be held in a virtual format on Tuesday, June 22, 2021 and Thursday, June 24, 2021, each day from 11 a.m. to 2 p.m. ET. Each session will be a combination of presentations, panel discussions, and moderated discussion. Participants will have the opportunity to ask questions and share feedback with the group. Advanced registration is required. Registrants will receive a confirmation email with call-in and webinar login information after they have been accepted. Person interested in attending this virtual workshop must register online by Monday, June 21, 2021.

Workshop registration is currently available at: https://www.energycodes.gov/future-of-codes-workshop.

Please check the website for additional information, including a detailed agenda, list of presentations, summary of the event, and link to comments received. More information on the DOE's support for building energy codes is available at https://www.energycodes.gov.

Signing Authority

This document of the Department of Energy was signed on June 8, 2021, by Kelly Speakes-Backman, Principal Deputy Assistant Secretary and Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 9, 2021.
Treena V. Garrett,
Federal Register Liaison Officer, U.S. Department of Energy.

[FR Doc. 2021-12423 Filed 6-11-21; 8:45 am]

BILLING CODE 6450-01-P